DEPARTMENT OF THE INTERIOR

Bureau of Land Management

[OR-958-1430-ET, HAG01-0026; OR-52315]

Notice of Proposed Withdrawal Correction, Oregon

AGENCY: Bureau of Land Management, Interior.

ACTION: Correction.

SUMMARY: This notice corrects an error in the legal description in the notice of proposed withdrawal published in 65 FR 59464, dated October 5, 2000, FR Doc. 00-25555. The land described as the E½NE¼ of sec. 12, T. 31 S., R. 1 E., Willamette Meridian, should read, W½NE¼ of sec. 12, T. 31 S., R. 1 E., Willamette Meridian.

Dated: October 27, 2000.
Sherrie L. Reid,
Acting Chief, Branch Realty and Records Services.

[FR Doc. 00-28331 Filed 11-3-00; 8:45 am]

BILLING CODE 4310-33-P